DEPARTMENT OF COMMERCE

Foreign-Trade Zones Board

[B-18-2019]

Production Activity Not Authorized; Foreign-Trade Zone (FTZ) 47—Boone County, Kentucky; BWF America, Inc. (Textile/Felt Filter Bags and other Filter Products for Industrial Use), Hebron, Kentucky

On March 21, 2019, the Greater Cincinnati Foreign Trade Zone, Inc., grantee of FTZ 47, submitted a notification of proposed production activity to the FTZ Board on behalf of BWF America, Inc., within FTZ 47, in Hebron, Kentucky.

The notification was processed in accordance with the regulations of the FTZ Board (15 CFR part 400), including notice in the Federal Register inviting public comment (84 FR 12194-12195, April 1, 2019). On July 19, 2019, the applicant was notified of the FTZ Board's decision that further review of the activity is warranted. The production activity described in the notification was not authorized. If the applicant wishes to seek authorization for this activity, it will need to submit an application for production authority, pursuant to Section 400.23.

Dated: July 19, 2019.
Elizabeth Whiteman,
Acting Executive Secretary.

[FR Doc. 2019-15720 Filed 7-23-19; 8:45 am]

BILLING CODE 3510-DS-P